DEPARTMENT OF TRANSPORTATION

Federal Aviation Administration

14 CFR Part 39

[Docket No. FAA-2005-20135; Directorate Identifier 2003-NM-231-AD; Amendment 39-14060; AD 2005-08-08]

RIN 2120-AA64

Airworthiness Directives; McDonnell Douglas Model DC-8-33 and -43 Airplanes; Model DC-8F-54 and DC-8F-55 Airplanes; and Model DC-8-50, -60, -60F, -70, and -70F Series Airplanes

AGENCY: Federal Aviation Administration (FAA), Department of Transportation (DOT).

ACTION: Final rule.

SUMMARY: The FAA is superseding an existing airworthiness directive (AD), which applies to certain McDonnell Douglas series airplanes. That AD currently requires repetitive inspections of the electrical connectors of the explosive cartridge wiring of the engine fire extinguisher containers to verify if the identification number labels are installed and legible; repetitive electrical tests of all explosive cartridge wiring of the engine fire extinguisher containers to verify proper installation and function; and corrective actions if necessary. This new AD requires an inspection of the emergency shut off wire assembly; installation of lanyards on the electrical connectors for the engine fire extinguishing agent containers and for the auxiliary power unit fire extinguishing agent containers if applicable; and related investigative/corrective actions, as applicable. This AD is prompted by reports of cross-wired electrical connectors of the engine fire extinguishing agent containers. We are issuing this AD to detect and correct cross-wired electrical connectors of the fire extinguishing system, which could release fire extinguishing agent into the incorrect engine nacelle in the event of an engine fire.

DATES: This AD becomes effective May 26, 2005.

The incorporation by reference of a certain publication listed in the AD is approved by the Director of the Federal Register as of May 26, 2005.

On December 20, 2001 (66 FR 63157, December 5, 2001), the Director of the Federal Register approved the incorporation by reference of a certain other publication listed in the AD.

ADDRESSES: For service information identified in this AD, contact Boeing Commercial Airplanes, Long Beach Division, 3855 Lakewood Boulevard, Long Beach, California 90846, Attention: Data and Service Management, Dept. C1-L5A (D800-0024).

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20135; the directorate identifier for this docket is 2003-NM-231-AD.

FOR FURTHER INFORMATION CONTACT: William S. Bond, Aerospace Engineer, Propulsion Branch, ANM-140L, FAA, Los Angeles Aircraft Certification Office, 3960 Paramount Boulevard, Lakewood, California 90712-4137; telephone (562) 627-5253; fax (562) 627-5210.

SUPPLEMENTARY INFORMATION: The FAA proposed to amend part 39 of the Federal Aviation Regulations (14 CFR part 39) with an AD to supersede AD 2001-25-01, amendment 39-12553 (66 FR 63157, December 5, 2001). The existing AD applies to certain McDonnell Douglas Model DC-8-33 and -43 airplanes; Model DC-8F-54 and DC-8F-55 airplanes; and Model DC-8-50, -60, -60F, -70, and -70F series airplanes. The proposed AD was published in the Federal Register on January 28, 2005 (70 FR 4055), to continue to require repetitive inspections of the electrical connectors of the explosive cartridge wiring of the engine fire extinguisher containers to verify if the identification number labels are installed and legible; repetitive electrical tests of all explosive cartridge wiring of the engine fire extinguisher containers to verify proper installation and function; and corrective actions if necessary. That action also proposed to require an inspection of the emergency shut off wire assembly; installation of lanyards on the electrical connectors for the engine fire extinguishing agent containers and for the auxiliary power unit (APU) fire extinguishing agent containers if applicable; and related investigative/corrective actions, as applicable.

Comments

We provided the public the opportunity to participate in the development of this AD. No comments have been submitted on the proposed AD or on the determination of the cost to the public.

Conclusion

We have carefully reviewed the available data and determined that air safety and the public interest require adopting the AD as proposed.

Costs of Compliance

There are about 233 airplanes of the affected design in the worldwide fleet. The following table provides the estimated costs, using an average labor rate of $65 per hour, for U.S. operators to comply with this AD.

Estimated Costs
Action | Work hours | Parts | Cost per airplane | Number of U.S.- registered airplanes | Fleet cost
Inspection of the electrical connectors of the explosive cartridge wiring and electrical test of all explosive cartridge wiring (required by AD 2001-25-01) | 3 | $0 | $195, per inspection/testing cycle | 177 | $34,515
General visual inspection of the emergency shut off wire assembly (new action) | 1 | $0 | $65, per inspection cycle | 177 | 11,505
Installation of lanyards on electrical connectors for engine fire extinguishing agent containers (new action) | 4 | $58 (For engine firex) | $318 | 177 | 56,268
Installation of lanyards on electrical APU connectors for APU fire extinguishing agent containers if applicable (new action) | 1 | $52 (For APU firex) | $117 | 177 | 20,709

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12553 (66 FR 63157, December 5, 2001), and by adding the following new airworthiness directive (AD):

2005-08-08 McDonnell Douglas: Amendment 39-14060. Docket No. FAA-2005-20135; Directorate Identifier 2003-NM-231-AD.

Effective Date

(a) This AD becomes effective May 26, 2005.

Affected ADs

(b) This AD supersedes AD 2001-25-01, amendment 39-12553 (66 FR 63157, December 5, 2001).

Applicability

(c) This AD applies to McDonnell Douglas Model DC-8-33, DC-8-43, DC-8-51, DC-8-52, DC-8-53, DC-8F-54, DC-8-55, DC-8F-55, DC-8-61, DC-8-61F, DC-8-62, DC-8-62F, DC-8-63, DC-8-63F, DC-8-71, DC-8-71F, DC-8-72, DC-8-72F, DC-8-73, and DC-8-73F airplanes; certificated in any category; as identified in Boeing Service Bulletin DC8-26-047, Revision 1, dated September 4, 2003.

Unsafe Condition

(d) This AD was prompted by reports of cross-wired electrical connectors of the engine fire extinguishing agent containers. We are issuing this AD to detect and correct cross-wired electrical connectors of the fire extinguishing system, which could release fire extinguishing agent into the incorrect engine nacelle in the event of an engine fire.

Compliance

(e) You are responsible for having the actions required by this AD performed within the compliance times specified, unless the actions have already been done.

Restatement of Requirements of AD 2001-25-01

Repetitive Inspections and Tests, and Corrective Action(s), if Necessary

(f) Within 30 days after December 20, 2001 (the effective date of AD 2001-25-01, amendment 39-12553), do the action(s) specified in paragraphs (f)(1) and (f)(2) of this AD, in accordance with Boeing Alert Service Bulletin DC8-26A046, dated November 7, 2001.

(1) Do an inspection of the electrical connectors of the explosive cartridge wiring of the engine fire extinguisher containers to verify if the identification number labels are installed and legible. If any identification number label is missing or is not legible, before further flight, install a label or replace the label with a new label, as applicable. Repeat the inspection after each maintenance action for the Firex Discharge system.

(2) Do an electrical test of all explosive cartridge wiring of the engine fire extinguisher containers to verify proper installation and function, using the cockpit warning lamps. If the lamp fails to illuminate, before further flight, troubleshoot and repair the wiring of the Firex Discharge system. Repeat the test after each maintenance action for the Firex Discharge system.

Note 1: Inspections, tests, and corrective actions, if necessary, done per Boeing BOECOM M-7200-01-02632, dated November 5, 2001, before December 20, 2001 (the effective date of AD 2001-25-01, amendment 39-12553), are considered acceptable for compliance with the requirements of paragraph (f) of this AD.

New Requirements of This AD

Inspection and Installation

(g) Within 18 months of the effective date of this AD, do a general visual inspection of the emergency shut off wire assembly to determine if the length of wire harness AAG at P1-510 can be connected to R5-74 and to determine if the length of wire harness ABG at P1-511 can be connected to R5-73; and, before further flight, do the corrective action, as applicable; by accomplishing all of the actions specified in paragraph B.1.b. of the Accomplishment Instructions of Boeing Service Bulletin DC8-26-047, Revision 1, dated September 4, 2003.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(h) Within 18 months of the effective date of this AD, install lanyards on the electrical connectors for the engine fire extinguishing agent containers in the left and right wing front spar; and, before further flight, do all the related investigative/corrective actions, as applicable; by accomplishing all of the actions specified in paragraph B.1.c. of the Accomplishment Instructions of Boeing Service Bulletin DC8-26-047, Revision 1, dated September 4, 2003.

Installation if Applicable

(i) For airplanes equipped with an auxiliary power unit (APU) installation in the forward cargo compartment at station Y=640.000: Within 18 months of the effective date of this AD, install lanyards on the electrical connectors for the APU fire extinguishing agent containers; and, before further flight, do all the related investigative/corrective actions, as applicable; by accomplishing all of the actions specified in paragraph B.2. of the Accomplishment Instructions of Boeing Service Bulletin DC8-26-047, Revision 1, dated September 4, 2003.

Terminating Action

(j) Accomplishment of the actions specified in paragraphs (g) and (h) of this AD terminates the repetitive inspections and electrical tests required by paragraph (f) of this AD.

Credit for Previous Service Bulletin

(k) Actions done before the effective date of this AD in accordance with Boeing Service Bulletin DC8-26-047, dated April 2, 2003, are acceptable for compliance with the corresponding requirements in paragraphs (g), (h), and (i) of this AD.

Alternative Methods of Compliance (AMOCs)

(l) The Manager, Los Angeles Aircraft Certification Office, FAA, has the authority to approve AMOCs for this AD, if requested using the procedures found in 14 CFR 39.19.

Material Incorporated by Reference

(m) You must use Boeing Service Bulletin DC8-26-047, Revision 1, dated September 4, 2003; and Boeing Alert Service Bulletin DC8-26A046, dated November 7, 2001; as applicable; to perform the actions that are required by this AD, unless the AD specifies otherwise.

(1) The incorporation by reference of Boeing Service Bulletin DC8-26-047, Revision 1, dated September 4, 2003, is approved by the Director of the Federal Register, in accordance with 5 U.S.C. 552(a) and 1 CFR part 51.

(2) The incorporation by reference of Boeing Alert Service Bulletin DC8-26A046, dated November 7, 2001, was approved previously by the Director of the Federal Register as of December 20, 2001 (66 FR 63157, December 5, 2001).

(3) To get copies of the service information, contact Boeing Commercial Airplanes, Long Beach Division, 3855 Lakewood Boulevard, Long Beach, California 90846, Attention: Data and Service Management, Dept. C1-L5A (D800-0024. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on April 11, 2005.
Ali Bahrami,
Manager, Transport Airplane Directorate, Aircraft Certification Service.

[FR Doc. 05-7684 Filed 4-20-05; 8:45 am]

BILLING CODE 4910-13-P